DEPARTMENT OF HEALTH AND HUMAN SERVICES

Office of the Secretary

5th Annual PHEMCE Stakeholders Workshop and BARDA Industry Day

AGENCY: Department of Health and Human Services, Office of the Secretary.

ACTION: Notice.

SUMMARY: The Department of Health and Human Services (HHS) is pleased to announce the upcoming 5th Annual Public Health Emergency Medical Countermeasures Enterprise (PHEMCE) Stakeholders Workshop and BARDA Industry Day to be held January 10-12, 2011 at the Walter E. Washington Convention Center in Washington, DC. This annual PHEMCE event will bring together private- and public-sector stakeholders including: Federal Officials, International Governments, Industry, Healthcare Providers, First Responders, Community-Based Organizations, and other interested audiences. Attendees will have opportunities to participate in Medical Countermeasure focused forums on:

• Pre-Event Positioning of Medical Countermeasures.

• Emergency Planning for Vulnerable Populations.

• Industry Feedback on Contracting Issue.

• Medical Countermeasures Development: Expanding the Pipeline and Exploring Multi-Use Potential.

• BARDA Industry Day Presentations.

This free Workshop will also address current state of public health emergency medical countermeasure preparedness plans and opportunities to enhance national response capabilities. BARDA Industry Day provides a unique opportunity for biotechnology and pharmaceutical industry representatives to showcase their latest advances in vaccines, therapeutics, diagnostics, and platform technologies targeting chemical, biological, radiological, nuclear, and naturally emerging threats, including pandemic influenza.

DATES: The 5th Annual PHEMCE Stakeholders Workshop and BARDA Industry Day will be held January 10-12, 2011. Each day will begin at 9 a.m.

ADDRESSES: The Workshop will be held at the Walter E. Washington Convention Center, 801 Mount Vernon Place, NW., Washington, DC 20001.

Registration: There is no fee to attend; however, space is limited and registration is required. Registration and the preliminary agenda are available online at: http://www.medicalcountermeasures.gov.

FOR FURTHER INFORMATION CONTACT: L. Paige Rogers, Office of Policy and Planning, Office of the Assistant Secretary for Preparedness and Response at 330 Independence Ave., SW., Room G640, Washington, DC 20201, e-mail at BARDA@hhs.gov, or by phone at 202-260-0365.

Dated: September 16, 2010.
Nicole Lurie,
Assistant Secretary for Preparedness and Response.

[FR Doc. 2010-26047 Filed 10-14-10; 8:45 am]

BILLING CODE 4150-37-P